DEPARTMENT OF DEFENSE

Department of the Army

Update to the 24 October 2016 Military Freight Traffic Unified Rules Publication (MFTURP) No. 1—New Carrier Performance Standard

AGENCY: Department of the Army, DOD.

ACTION: Notice.

SUMMARY: The Military Surface Deployment and Distribution Command (SDDC) is providing notice that it's implementing a new carrier performance enterprise standard. SDDC will conduct reviews to monitor and evaluate Transportation Service Providers (TSP) performance nationwide. The enterprise standard will be 90% calculated by comparing shipments to service failures. Complete details of the program were released via an SDDC advisory 22 November 2017 and entered into SDDC's Docketing System for comment. The advisory and docket can be viewed at the following links:

https://www.sddc.army.mil/res/Pages/advisories.aspx

https://www.sddc.army.mil/res/Pages/docketing.aspx

The update is to section A, V., B. SERVICE ELEMENTS, CARRIER PERFROMANCE MODULE (CPM) AND STANDARDS. Enterprise performance language will added after item 5 on page 69. Even though the update will not be added to the publication until mid-summer 2017, the evaluation process will begin with the first calendar quarter of 2017 (Jan, Feb and Mar).

DATES: Effective immediately.

ADDRESSES: Military Surface Deployment and Distribution Command, ATTN: AMSSD-OPM, 1 Soldier Way, Scott AFB, IL 62225-5006. Requests for additional information may be sent by email to: usarmy.scott.sddc.mbx.carrier-performance@mail.mil.

FOR FURTHER INFORMATION CONTACT: Carrier Performance Team, (618) 220-5894.

SUPPLEMENTARY INFORMATION:

References: Military Freight Traffic Unified Rules Publication-1 (MFTURP-1)

Miscellaneous: This publication, as well as the other SDDC publications, can be accessed via the SDDC Web site at: http://www.sddc.army.mil/GCD/default.aspx.

Daniel J. Bradley,
Deputy Chief, Domestic Movement Support Division.

[FR Doc. 2017-02022 Filed 1-30-17; 8:45 am]

BILLING CODE 5001-03-P